FEDERAL COMMUNICATIONS COMMISSION

[RM-10803]

Broadcasters' Services to Their Local Communities

AGENCY: Federal Communications Commission.

ACTION: Notice of meeting.

SUMMARY: The Federal Communications Commission will hold a Localism Task Force hearing in Monterey, California, on July 21, 2004. The purpose of the hearing is to gather information from consumers, industry, civic organizations, and others on broadcasters' service to their local communities. An important focus of the hearings is to gather information and to conduct outreach for the ongoing nationwide round of broadcast station license renewals.

DATES: The hearing will be held on Wednesday, July 21, 2004, from 6 p.m. to 10 p.m.

ADDRESSES: The hearing will be held at the Monterey Conference Center, Steinbeck Forum, Third Floor, located at One Portola Plaza, Monterey, California.

FOR FURTHER INFORMATION CONTACT: Rebecca Lockhart, Media Bureau, (202) 418-7777.

SUPPLEMENTARY INFORMATION: The Federal Communications Commission (FCC) will hold a Localism Task Force hearing on the subject of broadcast localism, on July 21, 2004. Several FCC Commissioners will preside. The purpose of the hearing is to gather information from consumers, industry, civic organizations, and others on broadcasters' service to their local communities. An important focus of the hearings is to gather information and to conduct outreach for the ongoing nationwide round of broadcast station license renewals.

Parking

Parking is available in the Custom House East and West public parking garages on Del Monte and Tyler Streets. More information about nearby parking (including hours of operation, directions, and rates) is available at http://www.monterey.org/parking/garages.html.

Admission Tickets

To avoid the need for the public to line up for the hearing, the Task Force will distribute free, general admission tickets on a first-come, first-served basis in advance of the hearing. A ticket guarantees admission to the hearing. One ticket will be issued to each person. To make it easy for members of the public to pick up an admission ticket, tickets will be available before, during and after regular business hours as follows:

Ticket Distribution Opportunity #1

Date and Time: Monday, July 19, 2004, 6 p.m.-8 p.m.(two evenings before the hearing).

Location: Steinbeck Forum Terrace (corner of Pacific Street & Del Monte Avenue, across from the Hotel Pacific), Monterey Conference Center, One Portola Plaza.

Number of Tickets: 150 tickets will be available (approximately 40% of the public seating in the hearing room).

Ticket Distribution Opportunity #2

Date and Time: Wednesday, July 21, 2004, 7 a.m.-1 p.m.(the day of the hearing).

Location: Steinbeck Forum Terrace (corner of Pacific Street & Del Monte Avenue, across from the Hotel Pacific), Monterey Conference Center, One Portola Plaza.

Number of Tickets: All remaining tickets will be available.

Any tickets that remain after the close of the second distribution opportunity will be available when the hearing room is opened for seating, at approximately 5:30 p.m. Therefore, those who do not get a ticket beforehand may still request one at the hearing and will be admitted until the capacity of the hearing room is reached.

Format of Hearing

The hearing will include panels of speakers, comprised of representatives of community and advocacy groups and broadcasters. The panels have been designed to be balanced and informative. As in past hearings, a substantial portion of the hearing will be dedicated to hearing from members of the public during an open microphone segment.

Open Microphone

In order to ensure that all members of the public who wish to speak have an equal opportunity to do so, the Task Force will use a random method to select speakers during the open microphone session. Anyone who wishes to speak must draw a card with a “Group Number” pre-printed on it (for example: “Group 25”). There are a total of 10 cards for each group. During the open microphone segment, the Task Force will randomly select group numbers and then display them on screens in the hearing room. If a person's group number is displayed, that person may proceed to the open microphone check-in area. An FCC staff member will then direct them to the microphone at the appropriate time. A public participation fact sheet containing these procedures, as well as additional details on participating in the open microphone segment and procedures for filing written comments, will be included in the information packet given to each person upon entering the hearing.

Translation, Captioning and Other Accommodations

Simultaneous translation of the hearing will be provided in Spanish via wireless headsets. Open captioning and sign language interpreters will also be provided for this event. Other reasonable accommodations for people with disabilities are available upon request. Requests should include a description of the accommodation needed, providing as much detail as possible, as well as contact information, should additional information be needed. Please make requests as early as possible. All requests will be accepted and every effort will be made to fulfill them, although timing considerations may make that impossible in some cases. Send requests via e-mail to fcc504@fcc.gov, or call the Consumer & Governmental Affairs Bureau at (202) 418-0530 (voice), (202) 418-0432 (TTY).

A live audiocast of the hearing will be available at the FCC's Web site at http://www.fcc.gov on a first-come, first-served basis. In addition, the hearing will be recorded, and the recording will be made available to the public. The public may also file comments or other documents with the Commission and should reference RM-10803. Filing instructions are provided at http://www.fcc.gov/localism/filing_instructions.doc.

Federal Communications Commission.
Royce D. Sherlock,
Chief, Industry Analysis Division, Media Bureau.

[FR Doc. 04-16456 Filed 7-19-04; 8:45 am]

BILLING CODE 6712-01-U